FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011843-003.

Title: ELJSA/ZIM Cross Space Charter and Sailing Agreement.

Parties: Evergreen Line Joint Service Agreement (“ELJSA”) and Zim Integrated Shipping Services, Ltd.

Filing Party: Paul M. Keane, Esq.; Cichanowicz, Callan, Keane, Vengrow & Textor, LLP; 61 Broadway; Suite 3000; New York, NY 10006-2802.

Synopsis: The amendment replaces Italia Marittima with ELJSA as a party to the agreement.

Agreement No.: 011938-004.

Title: HSDG/Alianca/CSAV/Libra/CLNU Cooperative Working Agreement.

Parties: Hamburg-Sud (“HSDG”); Alianca Navegacao e Logistica Ltda. e CIA (“Alianca”); Compania Sud Americana de Vapores, S.A.; Companhia Libra de Navegacao; and Montemar Maritima S.A.

Filing Party: Wayne R. Rohde, Esq.; Sher & Blackwell LLP; 1850 M Street, NW.; Suite 900; Washington, DC 20036.

Synopsis: The amendment would reduce the total number of slots being exchanged, clarify weight calculations with respect to those slots, and increase the number of slots to be chartered to HSDG/Alianca. The parties request expedited review.

Agreement No.: 011969-002.

Title: Zim/ELJSA Agreement.

Parties: Zim Integrated Shipping Services, Ltd. and Evergreen Line Joint Service Agreement (“ELJSA”).

Filing Party: Paul M. Keane, Esq.; Cichanowicz, Callan, Keane, Vengrow & Textor, LLP; 61 Broadway; Suite 3000; New York, NY 10006-2802.

Synopsis: The amendment replaces Italia Marittima with ELJSA as a party to the agreement.

Agreement No.: 011996.

Title: Gulf, Central America and Caribbean Vessel Sharing Agreement.

Parties: Compania Sud Americana de Vapores (“CSAV”) and Compania Chilena de Navegacion Ineroceanica S.A. (“CCNI”).

Filing Party: Walter H. Lion, Esq.; McLaughlin & Stern, LLP; 260 Madison Ave; New York, NY 10016.

Synopsis: The agreement authorizes the parties to cross charter space between the U.S. Gulf Coast and ports in Central America and the Caribbean.

Dated: April 20, 2007.
By Order of the Federal Maritime Commission.
Karen V. Gregory,
Assistant Secretary.

[FR Doc. E7-7916 Filed 4-24-07; 8:45 am]

BILLING CODE 6730-01-P